DEPARTMENT OF COMMERCE

Foreign-Trade Zones Board

[B-21-2019]

Foreign-Trade Zone (FTZ) 291—Cameron Parish, Louisiana; Authorization of Production Activity; Cheniere Energy Partners, L.P. (Liquified Natural Gas), Cameron, Louisiana

On March 25, 2019, Cheniere Energy Partners, L.P. submitted a notification of proposed production activity to the FTZ Board for its facility within FTZ 291, in Cameron, Louisiana.

The notification was processed in accordance with the regulations of the FTZ Board (15 CFR part 400), including notice in the Federal Register inviting public comment (84 FR 14087, April 9, 2019). On July 23, 2019, the applicant was notified of the FTZ Board's decision that no further review of the activity is warranted at this time. The production activity described in the notification was authorized, subject to the FTZ Act and the FTZ Board's regulations, including Section 400.14.

Dated: July 23, 2019.
Elizabeth Whiteman,
Acting Executive Secretary.

[FR Doc. 2019-15921 Filed 7-25-19; 8:45 am]

BILLING CODE 3510-DS-P